DEPARTMENT OF COMMERCE

National Oceanic and Atmospheric Administration

[I.D. 041905C]

Endangered Species; File No. 1526

AGENCY: National Marine Fisheries Service (NMFS), National Oceanic and Atmospheric Administration (NOAA), Commerce.

ACTION: Receipt of application.

SUMMARY: Notice is hereby given that Andre Landry, Sea Turtle and Fisheries Ecology Research Lab, Texas A&M University at Galveston, 5007 Avenue U, Galveston, TX 77553, has applied in due form for a permit to take Kemp's ridley (Lepidochelys kempii), loggerhead (Caretta caretta), green (Chelonia mydas), and hawksbill (Eretmochelys imbricata) for purposes of scientific research.

DATES: Written, telefaxed, or e-mail comments must be received on or before May 25, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and

Assistant Regional Administrator for Protected Resources, Southeast Region, NMFS, 263 13th Avenue South, St. Petersburg, FL 33701; phone (727)824-5312; fax (727)824-5517.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1526.

FOR FURTHER INFORMATION CONTACT: Patrick Opay or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed research is to study Kemp's ridley, loggerhead, green, and hawksbill sea turtles in the Gulf of Mexico to identify their relative abundance over time; detect changes in sea turtle size composition; document movement and migration patterns; and determine the role of near shore habitats in sea turtle survival. The applicant proposes to take up to 327 Kemp's ridley, 162 loggerhead, 450 green, and 15 hawksbill sea turtles over the course of a 5-year permit. Two hundred and fifty-five of the Kemp's ridley, 90 of the loggerhead, 435 green, and all hawksbill sea turtles would be captured by entanglement net. Fifteen green sea turtles would be captured by cast net. The remaining turtles would have been captured by relocation trawls authorized under separate permits and then provided to the applicant. All turtles would be blood sampled, measured, weighed, epiphyte sampled, flipper tagged, and passive integrated transponder tagged. A subset of these animals would have satellite or radio/sonic transmitters attached to their carapace and have fecal samples collected.

Dated: April 20, 2005.
Stephen L. Leathery,
Chief, Permits, Conservation and Education Division, Office of Protected Resources, National Marine Fisheries Service.

[FR Doc. 05-8225 Filed 4-22-05; 8:45 am]

BILLING CODE 3510-22-S